CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is conducting a Study of the Community, Higher Education, and School Partnerships (CHESP) supported with Learn and Serve America School-based funds. This notice concerns the collection of information from CHESP grantees and subgrantee organizations which will describe the organizations, the CHESP activities that they are involved in, and their perceptions of their CHES Partnerships. Copies of the information collection request can be obtained by contacting the office listed below in the ADDRESSES section of this notice.

The Corporation is particularly interested in comments which:

• Evaluate whether the proposed collection of information is necessary for the proper performance of the functions of the Corporation, including whether the information will have practical utility;

• Evaluate the accuracy of the Corporation's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology; e.g., permitting electronic submissions of responses.

DATES: Written comments must be submitted to the office listed in the ADDRESSES section by July 29, 2002.

ADDRESSES: Send comments to the Corporation for National and Community Service, Department of Research and Policy Development, Attn: William Ward, 1201 New York Avenue, NW, Washington, DC, 20525, or wward@cns.gov.

FOR FURTHER INFORMATION CONTACT: William Ward (202) 606-5000, ext. 375 or wward@cns.gov.

SUPPLEMENTARY INFORMATION:

Background

The intent of the Community, Higher Education, and School Partnerships (CHESP), a service-learning initiative, is for communities, institutions of higher education, and schools to work together to identify and meet the needs of the community and create valuable learning opportunities for young people. The program's purpose is to encourage strategic collaborations among institutions to improve education and communities through service-learning and develop comprehensive demonstration models of service-learning and community, higher education, and school collaborations that can be replicated. A key aspect of CHESP, and what distinguishes it from other service-learning programs, is its emphasis on three-way partnerships among schools, community-based organizations and institutions of higher education.

In February 2000, the Corporation awarded 20 competitive three-year CHESP grants supported with Learn and Serve America: School-based funds to state education agencies, grantmaking entities, and one Indian Tribe. Each grantee then funded between two and 18 local subgrantees (for a total of approximately 166 subgrantees).

The study of the Community, Higher Education, and School Partnerships (CHESP) seeks to describe CHESP grantees and subgrantees and their partnerships; identify facilitators and barriers to establishing service-learning partnerships among CHESP partners; determine whether CHESP programs provide effective models or value-added strategies for service-learning initiatives that can be replicated; and determine whether CHESP programs suggest an appropriate direction for future grantmaking policy.

Current Action

The Corporation seeks approval of two telephone survey forms that will be used to collect information about CHESP grantee and subgrantee partnerships and programs. This requires collecting information from grantee and subgrantee organization staff that will address: (1) CHESP project characteristics and information about the implementation of the partnerships; and (2) the impact of the CHESP partnerships on the grantee and the subgrantee organizations.

Type of Review: New collection.

Agency: Corporation for National and Community Service.

Title: CHESP Grantee/ Subgrantee Survey.

OMB Number: None.

Agency Number: None.

Affected Public: Project staff at CHESP grantee organizations such as state education agencies, grantmaking entities, and one Indian Tribe, and project staff at subgrantee organizations such as community based organizations, elementary and secondary schools and school districts, and institutions of higher education.

Total Respondents: 20 grantees, and approximately 166 subgrantees.

Frequency: One time survey.

Average Time Per Response: Grantee Survey: 60 minutes, Subgrantee Survey: 50 minutes.

Estimated Total Burden Hours: 160.

Total Burden Cost (capital/startup): None.

Total Burden Cost (operating/maintenance): None.

Comments submitted in response to this notice will be summarized and/or included in the request for Office of Management and Budget approval of the information collection request; they will also become a matter of public record.

Dated: May 22, 2002.
David Reingold,
Director, Department of Research and Policy Development.

[FR Doc. 02-13465 Filed 5-29-02; 8:45 am]

BILLING CODE 6050-$$-P